DEPARTMENT OF AGRICULTURE

Forest Service

Nicolet Resource Advisory Committee

AGENCY: Forest Service, USDA.

ACTION: Notice of Meeting.

SUMMARY: The Nicolet Resource Advisory Committee will meet at the Laona Ranger Station, Laona, Wisconsin. The committee is meeting as authorized under the Secure Rural Schools and Community Self-Determination Act (Pub. L. 110-343) and in compliance with the Federal Advisory Committee Act. The purpose is to hold a meeting to review submitted project proposals.

DATES: The meeting will be held on November 3, 2010, and will begin at 9:30 a.m.

ADDRESSES: The meeting will be held at the Laona Ranger Station, 4978 Hwy 8 W, Laona, WI. Written comments should be sent to Penny McLaughlin, Chequamegon-Nicolet National Forest, 4978 Hwy 8 W, Laona, WI 54541. Comments may also be sent via e-mail to pmclaughlin@fs.fed.us or via facsimile to 715-674-2545.

All comments, including names and addresses when provided, are placed in the record and are available for public inspection and copying. The public may inspect comments received at Chequamegon-Nicolet National Forest Office, 4978 Hwy 8 West, Laona, WI 54541. Visitors are encouraged to call ahead to 715-674-4481 to facilitate entry into the building.

FOR FURTHER INFORMATION CONTACT: Penny McLaughlin, RAC Coordinator, USDA, Chequamegon-Nicolet National Forest, 4978 Hwy 8 W, Laona, WI 54541; 715-674-4481; e-mail: pmclaughlin@fs.fed.us.

Individuals who use telecommunication devices for the deaf (TDD) may call the Federal Information Relay Serve (FIRS) at 1-800-877-8339 between 8:00 a.m. and 8:00 p.m., Eastern Standard Time, Monday through Friday.

SUPPLEMENTARY INFORMATION: The meeting is open to the public. The following business will be conducted: (1) Review and recommend the project proposal submissions for Title II projects; and (2) Public Comment. Persons who wish to bring related matters to the attention of the Committee may file written statements with the Committee staff before or after the meeting.

Dated: September 27, 2010.
Paul I. V. Strong
Forest Supervisor.

[FR Doc. 2010-25004 Filed 10-4-10; 8:45 am]

BILLING CODE 3410-11-P